DEPARTMENT OF COMMERCE

International Trade Administration

Stevens Institute of Technology, et al.; Notice of Consolidated Decision on Applications for Duty-Free Entry of Electron Microscope

This is a decision consolidated pursuant to Section 6(c) of the Educational, Scientific, and Cultural Materials Importation Act of 1966 (Pub. L. 89-651, as amended by

Pub. L. 106-36; 80 Stat. 897; 15 CFR part 301). Related records can be viewed between 8:30 a.m. and 5:00 p.m. in Room 3720, U.S. Department of Commerce, 14th and Constitution Avenue NW, Washington, DC

Docket Number: 12-008. Applicant: Stevens Institute of Technology, Hoboken, NJ 07030. Instrument: Quanta 450 Scanning Electron Microscope. Manufacturer: FEI Company, Czech Republic. Intended Use: See notice at 77 FR 20360, April 4, 2012.

Docket Number: 12-009. Applicant: Humboldt State University, Arcata, CA 95521. Instrument: Quanta 250 Scanning Electron Microscope. Manufacturer: FEI Company, Czech Republic. Intended Use: See notice at 77 FR 20360, April 4, 2012.

Docket Number: 12-010. Applicant: Howard Hughes Medical Institute, Chevy Chase, MD 20815. Instrument: Tecnai G2 F20T Transmission Electron Microscope. Manufacturer: FEI Company, Czech Republic. Intended Use: See notice at 77 FR 20360, April 4, 2012.

Docket Number: 12-012. Applicant: Alliance for Sustainable Energy, Golden, CO 80401-3305. Instrument: Tecnai G2 20 S-TWIN Transmission Electron Microscope. Manufacturer: FEI Company, Czech Republic. Intended Use: See notice at 77 FR 20360, April 4, 2012.

Docket Number: 12-014. Applicant: California Institute of Technology, Pasadena, CA 91125. Instrument: Nova NanoSEM 450 Scanning Electron Microscope. Manufacturer: FEI Company, Czech Republic. Intended Use: See notice at 77 FR 20360, April 4, 2012.

Docket Number: 12-015. Applicant: University of Nebraska-Lincoln, Lincoln, NE 68588. Instrument: Nova NanoSEM 450 Scanning Electron Microscope. Manufacturer: FEI Company, Czech Republic. Intended Use: See notice at 77 FR 20360, April 4, 2012.

Docket Number: 12-016. Applicant: University of Nebraska- Lincoln, Lincoln, NE 68588. Instrument: Tecnai Osiris Field Emission Scanning Electron Microscope. Manufacturer: FEI Company, Czech Republic. Intended Use: See notice at 77 FR 20360, April 4, 2012.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: May 1, 2012.
Gregory W. Campbell,
Director, Subsidies Enforcement Office, Import Administration.

[FR Doc. 2012-11226 Filed 5-9-12; 8:45 am]

BILLING CODE 3510-DS-P